DEPARTMENT OF HEALTH AND HUMAN SERVICES

Health Resources and Services Administration

National Advisory Council on Nurse Education and Practice; Notice of Meeting

In accordance with section 10(a)(2) of the Federal Advisory Committee Act (Pub. L. 92-463), notice is hereby given of the following meetings:

Name: National Advisory Council on Nurse Education and Practice (NACNEP).

Dates and Times: November 17, 2010, 1 p.m.-5 p.m.

November 18, 2010, 8:30 a.m.-4:30 p.m.

November 19, 2010, 8:30 a.m.-4 p.m.

Place: Hilton Washington DC/Rockville Hotel & Executive Meeting Center, 1750 Rockville Pike, Rockville, MD 20852.

Status: The meeting will be open to the public.

Agenda: Agency and Bureau administrative updates will be provided.

Purpose: The purpose of this meeting is to address diversity in nurse education and practice. The objectives of the meeting are to: (1) Articulate the definition, goals and implications of diversification of the nursing workforce; (2) summarize the current data trends and existing information on diversity in the nursing workforce including nursing students; (3) examine existing policies, practices and legal constraints that influence or limit the recruitment of diverse students into the profession of nursing; (4) identify the key elements of successful programs in nursing education that have increased the recruitment and graduation of diverse individuals; and (5) identify the key elements of success in innovative models that have improved the retention, professional development and promotion of diverse individuals within the nursing profession. Experts from professional nursing, public and private organizations will make presentations on a range of issues related to diversity in the nursing workforce and health professions. Day one of the meeting will be devoted to new member orientation. During days two and three of the meeting, the NACNEP council members will deliberate on the content presented on diversity in nurse education and practice. This meeting will form the basis for NACNEP's mandated Eleventh Annual Report to the Secretary of Health and Human Services and the Congress. For further information regarding NACNEP, to obtain a roster of members, minutes of the meeting, or other relevant information, contact Lakisha Smith, Executive Secretary, National Advisory Council on Nurse Education and Practice, Parklawn Building, Room 9B-45, 5600 Fishers Lane, Rockville, Maryland 20857, telephone (301) 443-5688. Information can also be found at the following Web site: http://bhpr.hrsa.gov/nursing/nacnep.htm.

Dated: October 12, 2010.
Wendy Ponton,
Director, Office of Management.

[FR Doc. 2010-26204 Filed 10-18-10; 8:45 am]

BILLING CODE 4165-15-P